DEPARTMENT OF HEALTH AND HUMAN SERVICES

National Institutes of Health

National Institute of Neurological Disorders and Stroke; Amended Notice of Meeting

Notice is hereby given of a change in the meeting of the National Institute of Neurological Disorders and Stroke Special Emphasis Panel, July 09, 2015, 09:00 a.m. to July 10, 2015, 01:00 p.m., The Fairmont Washington, DC, 2401 M Street NW., Washington, DC 20037 which was published in the Federal Register on May 13, 2015, 80 FRN27332.

The meeting notice is amended to change the location of the meeting from The Fairmont Washington DC to the Hyatt Regency Bethesda. The date and time remain the same. The meeting is closed to the public.

Dated: June 9, 2015.
Carolyn Baum,
Program Analyst, Office of Federal Advisory Committee Policy.

[FR Doc. 2015-14427 Filed 6-11-15; 8:45 am]

BILLING CODE 4140-01-P